DEPARTMENT OF LABOR

Occupational Safety and Health Administration

[Docket No. ICR-1218-0121(2001)]

Powered Platforms for Building Maintenance (29 CFR 1910.66); Extension of the Office of Management and Budget's (OMB) Approval of Information-Collection (Paperwork) Requirements

AGENCY: Occupational Safety and Health Administration (OSHA), Labor.

ACTION: Notice of an opportunity for public comment.

SUMMARY: OSHA solicits public comment concerning its request to decrease and extend the information-collection requirements specified in the standard on Powered Platforms for Building Maintenance (29 CFR 1910.66).

DATES: Submit written comments on or before July 6, 2001.

ADDRESSES: Submit written comments to the Docket Office, Docket No. ICR-1218-0121(2001), OSHA, U.S. Department of Labor, Room N-2625, 200 Constitution Avenue, NW., Washington, DC 20210; telephone: (202) 693-2350. Commenters may transmit written comments of 10 pages or less by facsimile to: (202) 693-1648.

FOR FURTHER INFORMATION CONTACT: Theda Kenney, Directorate of Safety Standards Programs, OSHA, U.S. Department of Labor, Room N-3609, 200 Constitution Avenue, NW., Washington, DC 20210; telephone: (202) 693-2222. A copy of the Agency's Information-Collection Request (ICR) supporting the need for the information collections specified by the standard on Powered Platforms for Building Maintenance is available for inspection and copying in the Docket Office, or by requesting a copy from Theda Kenney at (202) 693-2222 or Todd Owen at (202) 693-2444. For electronic copies of the ICR, contact OSHA on the Internet at http://www.osha.gov/comp-links.html, and select “Information Collection Requests.”

SUPPLEMENTARY INFORMATION:

I. Background

The Department of Labor, as part of its continuing effort to reduce paperwork and respondent (i.e., employer) burden, conducts a preclearance consultation program to provide the public with an opportunity to comment on proposed and continuing information-collection requirements in accordance with the Paperwork Reduction Act of 1995 (PRA-95) (44 U.S.C. 3506(c)(2)(A)). This program ensures that information is in the desired format, reporting burden (time and costs) is minimal, collection instruments are clearly understood, and OSHA's estimate of the information-collection burden is correct.

Paragraph (e)(9) of the § 1910.66 (hereafter, the “Standard”) requires that employers develop and implement a written emergency-action plan for each type of powered-platform operation. The plan must explain the emergency procedures that employees are to follow if they encounter a disruption of the power supply, equipment failure, and other emergency. Prior to operating a powered platform, employers must notify employees how they can inform themselves about alarm systems and emergency-escape routes, and emergency procedures that pertain to the building on which they will be working. Employers are to review with each employee those parts of the emergency-action plan that the employee must know to ensure their protection during an emergency; these reviews must occur when the employee receives an initial assignment involving a powered-platform operation and after the employer revises the emergency-action plan.

According to paragraph (f)(5)(i)(C), employers must affix a load-rating plate to a conspicuous location and on each suspended unit that states the unit's weight and its rated load capacity. Paragraph (f)(5)(ii)(N) requires employers to mount each emergency electric-operating device in a secured compartment and label the device with instructions for its use. After installing a suspension wire rope, paragraphs (f)(7)(vi) and (f)(7)(vii) mandate that employers attach a corrosion-resistant tag with specified information to one of the wire-rope fastenings if the rope is to remain at one location. In addition, paragraph (f)(7)(viii) requires employers who resocket a wire rope to either stamp specified information on the original tag or put that information on a supplemental tag and attach it to the fastening.

Paragraphs (g)(2)(i) and (g)(2)(ii) require that building owners, at least annually, have a competent person: Inspect the supporting structures of their buildings; inspect and, if necessary, test the components of the powered platforms, including control systems; inspect/test components subject to wear (e.g., wire ropes, bearings, gears, and governors); and certify these inspections and tests. Under paragraph (g)(2)(iii), building owners must maintain and, on request, disclose to OSHA a written certification record of these inspections/tests; this record must include the date of the inspection/test, the signature of the competent person who performed it, and the number/identifier of the building support structure and equipment inspected/tested.

Paragraph (g)(3)(i) mandates that building owners use a competent person to inspect and, if necessary, test each powered-platform facility according to the manufacture's recommendations every 30 days, or prior to use if the work cycle is less than 30 days. Under paragraph (g)(2)(iii), building owners must maintain and, on request, disclose to the Agency a written certification record of these inspections/tests; this record is to include the date of the inspection/test, the signature of the competent person who performed it, and the number/identifier of the powered-platform facility inspected/tested.

According to paragraph (g)(5)(iii), building owners must have suspension wire ropes thoroughly inspected for a number of specified conditions by a competent person once a month, or before placing the wire ropes into service if the ropes are inactive for 30 days or longer. Paragraph (g)(5)(v) requires building owners to maintain and, on request, disclose to OSHA a written certification record of these monthly inspections; this record must consist of the date of the inspection, the signature of the competent person who performed it, and the number/identifier of the wire rope inspected.

Paragaraph (i)(1)(iv) requires employers to develop written work procedures for the operation, safe use, and inspection of powered platforms, and to provide these procedures to their employees for training purposes. In meeting these requirements, an employer may use pictorial methods and operating manuals supplied by the manufacturers of the system components. In addition, paragraph (i)(1)(ii) mandates that employers train employees in: Recognizing safety hazards associated with their work tasks and developing measures to prevent these hazards; general recognition and prevention of safety hazards associated with the operation of powered platforms, including the powered platforms they operate; the emergency-action plan and work procedures developed under paragraphs (e)(9) and (i)(1)(iv), respectively; and the inspection, maintenance, use, and performance of their personal fall-arrest system. On completion of this training, paragraph (i)(1)(v) specifies that employers must prepare a written certification that includes the identity of the employee trained, the signature of the employer or the trainer, and the date the employee completed the training. In addition, the employer must maintain an employee's training certificate for the duration of their employment and, on request, make it available to OSHA.

Emergency-action plans allow employers and employees to anticipate, and effectively respond to, emergencies that may arise during powered-platform operations. Affixing load-rating plates to suspended units, instructions to emergency electric-operating devices, and tags to wire-rope fasteners prevent workplace accidents by providing information to employers and employees regarding the conditions under which they can safely operate these system components. Requiring building owners to establish and maintain written certification of inspections and testing conducted on the supporting structures of buildings, powered-platform systems, and suspension wire ropes provides employers and employees with assurance that they can operate safely from the buildings using equipment that is in safe operating condition. The training requirements increase employee safety by allowing them to develop the skills and knowledge necessary to effectively operate, use, and inspect powered platforms, recognize and prevent safety hazards associated with platform operation, respond appropriately under emergency conditions, and maintain and use their fall-protection arrest system. Training certification permits employers to review the training provided to their employees, thereby ensuring that the employees received the necessary training. In addition, the paperwork requirements specified by the Standard provide the most efficient means for an OSHA compliance officer to determine whether or not employers and building owners are providing the required notification, certification, and training.

II. Special Issues for Comment

OSHA has a particular interest in comments on the following issues:

• Whether the proposed information-collection requirements are necessary for the proper performance of the Agency's functions, including whether the information is useful;

• The accuracy of OSHA's estimate of the burden (time and costs) of the information-collection requirements, including the validity of the methodology and assumptions; used;

• The quality, utility, and clarity of the information collected; and

• Ways to minimize the burden on employers who must comply; for example, by using automated or other technological information-collection and -transmission techniques.

III. Proposed Actions

OSHA is proposing to decrease the existing burden-hour estimate, and to extend OMB approval, of the collection-of-information requirements specified in the Standard. In this regard, the Agency is proposing to decrease the current burden-hour estimate from 246,498 hours to 119,497 hours, a total reduction of 127,001 hours. OSHA will summarize the comments submitted in response to this notice, and will include this summary in its request to OMB to extend the approval of these information-collection requirements.

Type of Review: Extension of a currently-approved information-collection requirement.

Title: Powered Platforms for Building Maintenance (29 CFR 1910.66).

OMB Number: 1218-0121.

Affected Public: Business or other for-profit, not-for-profit institutions; Federal government; State, local or tribal governments.

Number of Respondents: 900.

Frequency of Response: Annually; monthly; occasionally.

Average Time per Response: Varies from 1 minute (0.02 hour) (to maintain a training record) to 10 hours (to inspect/test building-support structures and the components of a powered platform).

Estimated Total Burden Hours: 119,497 hours.

Estimated Cost (Operation and Maintenance): $0.

IV. Authority and Signature

R. Davis Layne, Acting Assistant Secretary of Labor for Occupational Safety and Health, directed the preparation of this notice. The authority for this notice is the Paperwork Reduction Act of 1995 (44 U.S.C. 3506) and Secretary of Labor's Order No. 3-2000 (65 FR 50017).

Signed at Washington, DC on May 1st, 2001.
R. Davis Layne,
Acting Assistant Secretary of Labor.

[FR Doc. 01-11389 Filed 5-4-01; 8:45 am]

BILLING CODE 4510-26-M